DEPARTMENT OF COMMERCE

National Oceanic and Atmospheric Administration

NOAA RESTORE Act Science Program Science Plan

AGENCY: National Ocean Service, National Oceanic and Atmospheric Administration, U.S. Department of Commerce.

ACTION: Response to comments and release of final science plan.

SUMMARY: The National Ocean Service (NOS) of the National Oceanic and Atmospheric Administration (NOAA) publishes this notice to announce the availability of response to comments and release of the final science plan for the NOAA RESTORE Act Science Program.

ADDRESSES: The final science plan for the NOAA RESTORE Act Science Program will be available at http://restoreactscienceprogram.noaa.gov/science-plan. Inquiries about the plan may be addressed to Becky Allee at NOAA Office for Coastal Management, Gulf of Mexico Division, Bldg. 1100, Rm. 232, Stennis Space Center, MS 39529.

FOR FURTHER INFORMATION CONTACT: For further information, contact: Becky Allee (becky.allee@noaa.gov, 228-688-1701).

SUPPLEMENTARY INFORMATION: NOAA is publishing this Notice to announce Response to Comments received on the Draft Science Plan and release of the Final Science Plan for the NOAA RESTORE Act Science Program. The final plan will be posted on May 6, 2015. The Final Science Plan is being issued after careful consideration and adjudication of public comments received following a 45-day comment period from October 30, 2014—December 15, 2014.

Section 1604 of the Resources and Ecosystems Sustainability, Tourist Opportunities, and Revived Economies of the Gulf Coast States Act of 2012 (RESTORE Act) establishes the Gulf Coast Ecosystem Restoration Science, Observation, Monitoring, and Technology Program (Science Program) to be administered by NOAA and to carry out research, observation, and monitoring to support the long-term sustainability of the ecosystem, fish stocks, fish habitat, and the recreational, commercial, and charter fishing industry in the Gulf of Mexico. The Final Science Plan for the NOAA RESTORE Act Science Program lays out the path forward for the program. The plan provides an overview of the program and its establishing legislation, describes our three short-term and 10 long‐term research priorities and the process by which they were determined, and summarizes the Program's structure and administration. The plan is organized in three sections. Section I includes: background on legislative requirements and mission; the vision, goal, and outcomes for the program; research scope and priorities; NOAA's roles; geographic scope; and approach to engagement. Section II describes each of the 10 long-term research priorities identified for the program. For each priority we include the management needs that drive the priority, desired outcomes, examples of key activities; and examples of potential outputs. This section also includes a brief discussion on the importance of synthesis and integration of the research conducted under these priorities. Section III, which describes the program's structure and administration, includes sections on program management, consultation and coordination, program parameters, funding opportunities and competitive process; environmental compliance, and data and information sharing.

Response to Comments

“NOAA received 19 sets of comments from organizations and private citizens (241 total recommendations). Many of the comments were supportive of the science plan as a whole while only offering minor editorial suggestions or requesting clarification on elements of the plan. The breakdown of the 19 submissions was 7 individuals, 6 non-governmental organizations or groups (represented 9 organizations), 2 federal agencies, 1 state agency, 1 academic institution, 1 regional ocean observing partnership, and 1 fishery management organization.” Of the comments addressing core components of the plan, the topics most frequently raised were NOAA's role in the program; the process for translating the long-term research priorities into future funding opportunities; prioritization of data synthesis; integration, communication, and coordination with other programs; and a process for measuring the success of the program and research carried out under the program. From the draft version of the plan to this final version of the plan, the key changes are a clearer description of NOAA's role in the program, additional information on the factors the program will consider in translating the long-term research priorities into future funding opportunities, and additional information on the geographic scope of the program.

The following section, organized by category (1-9), presents a summary of the comments and NOAA's responses. The number of total recommendations (of the 241) is listed for each category. Editorial corrections will not be extensively addressed in this Notice; however a few examples have been provided. For further information on Response to Comments, contact: Becky Allee (becky.allee@noaa.gov, 228-688-1701).

1. General Comments

2. NOAA' role

3. Program Scope

4. Research Priorities

5. Clarification of Priorities

6. Performance Measures

7. Coordination and Engagement

8. Funding, Eligibility and Prioritization

9. Editorial

Category 1: General Comments (22 Recommendations)

(a) Is there a mechanism to include previous research or outside research?

(b) Cite the Coastal Protection and Restoration Authority's (CPRA) Coastal Master Plan in the references.

Response 1

Overall, the program received several comments supporting the goals and activities of the plan and complimenting the program on developing the plan. One comment queried the program's plan for inclusion of previous research or outside research. The revised plan highlights the immediate responsibility of the program to manage the data requirements of projects funded under the program. A comprehensive, integrated mechanism to pull all research together is the objective of one of the priorities presented in this plan. Other comments ranged from recommendations to include missing references (e.g., CPRA's Coastal Master Plan, considered a regionally significant accomplishment) or requests to update references cited in the plan (e.g., Gulf Councils updated list of research and priority needs for 2015-2019). The majority of the general comments were supportive of the programs draft plan. Many others, while acknowledged, did not warrant changes in the document.

Category 2: NOAA's Role (4 Recommendations)

Commenters asked for clarification on the role NOAA staff and scientists have in administering and carrying out the NOAA RESTORE Act Science Program, for example, involvement in research activities, processes for funding expenditures, participation in research results synthesis and integration activities, etc.

Response 2

The final science plan has a sub-section titled, “NOAA's Role” in Section I.4. This section restates the specific actions that NOAA will (or will not) carry out as authorized by the RESTORE Act [Section 1604(b)(4)]. Specifically regarding the question on synthesis and integration, a paragraph addressing this was added in Section II, “Long-term Research Priorities”.

Category 3: Program Scope and Domain (34 Recommendations)

(a) Include a section on adaptive management.

(b) What is the geographical scope of the program?

(c) Include further details and clarification on terms and species within plan.

(d) Recommendations to include research areas.

Response 3

The Program received several comments on the need for more information and clarification on its scope. One comment encouraged the inclusion of an adaptive management discussion in the document. The Program recognizes the important role of adaptive management in addressing resource issues in the Gulf of Mexico; however, since the NOAA RESTORE Act Science Program is a research program and not a resource management program, we decided this was beyond the scope of the plan. The Program will not provide direct financial support to management activities, but will support science that intends to inform management decisions.

Many comments inquired about the geographic scope (domain) of the program. They expressed concern that the domain extended too far inland or that offshore and deepwater environments and their associated biological communities were not included. We revised Section I.5, “Geographic Scope” to better define our intent, including extent of watershed activities. Further clarification on included species has been added throughout the plan. Following these revisions we determined that the “Program Scope” section was mostly redundant with information presented elsewhere in the plan so the section was removed in the final version.

Category 4: Research Priorities (14 Recommendations)

(a) Missing management needs, outcomes, example activities, or outputs for some aspects of research priorities.

(b) Redundancy among example activities, outputs, and/or outcomes across research priorities.

(c) Requests for expanded discussion on short-term priorities.

(d) How will priorities be further “prioritized” or sequenced?

Response 4

(a) Management needs, outcomes, example activities, and outputs identified under each of the 10 long-term research priorities represent the types of activities and outputs that could be undertaken and developed in support of research and management needs and do not represent an exhaustive list. Rather, we have provided an initial list based on review of existing documents from the Gulf of Mexico, stakeholder input, conversations with partners, and expertise of program staff. Language in the plan that explained this use of examples was further clarified.

(b) We agree with comments about redundancy among example activities, outputs, and/or outcomes across research priorities. Upon further review, we determined that some activities, outputs, and/or outcomes were not appropriate for the research priority under which they were listed and so they were removed. In other cases, simple edits were sufficient to address any issue(s). However, in some instances, redundancy should be expected. It is quite acceptable to expect like activities to occur in support of ecosystem research, recognizing that ultimately the activities are intended to answer different sets of questions.

(c) Several comments requested that the plan elaborate and invest more discussion on short-term priorities. Since the short-term priorities were originally released in the Program's Framework document (December 2013), and subsequently were the focus of a federal funding opportunity (FFO), they are not covered in greater depth in this plan. The focus of this plan is to establish the long-term research priorities that will guide future implementation of this Program.

(d) A considerable number of comments expressed concern over the Program's ability to address all of the long-term research priorities and requested information on the Program's plan for further prioritizing and sequencing priorities. Refer to Section III.4, “Funding Opportunities and Competitive Process”, for a revised list of factors that will inform sequencing among the Program's long-term research priorities.

Category 5: Priority Clarification (42 Recommendations)

(a) Provide greater detail.

(b) Build on existing data/knowledge better.

Response 5

(a) A number of comments requested that the plan provide greater detail on the long-term research priorities, intended actions to be carried out under these priorities, and the anticipated outcomes. The plan identifies priorities for the Gulf of Mexico ecosystem that will add to our understanding of the condition of its living coastal and marine resources and wildlife populations, and the human coastal communities that are dependent upon this ecosystem. To achieve this holistic understanding requires a broad array of multi-disciplinary research projects that address both the natural and socioeconomic sciences. To address each in fine detail would be an immense undertaking, particularly for a new Program such as this one. At this early stage of the Program's development, the plan was purposefully written at a higher level with less detail to allow space for the Program to mature its own niche and fill unmet research needs in the region, all within the scope of the Program's authorization. This plan will be revised approximately every 5 years and more frequently if deemed necessary. As the Program matures, long-term research priorities may be refined.

(b) Several comments requested that the plan recognize certain existing data and knowledge and seek to build off this previous work. We reviewed the plan and added additional references to previous work and mentioned additional opportunities to leverage ongoing or previous activities

Category 6: Performance Measures (10 Recommendations)

(a) What is the process for evaluating success?

(b) How will performance be measured?

(c) What are the metrics for success?

Response 6

There were several comments on performance management, many of which were focused on the long-term research priorities. We are currently developing our approach to performance management; however, it will not be completed in time for inclusion with the Final Science Plan. We will vet our approach for performance management with our internal and external advisory bodies (refer to Section III.1, “Program Management Structure” for more details on our advisory structure).

Category 7: Coordination and Engagement (32 Recommendations)

(a) Elaborate on the coordination and engagement process.

(b) Coordinate with the Centers of Excellence Research Grants Program.

(c) Emphasis placed on interactions with Gulf state agencies.

(d) Will the science plan be revised to reflect finalized coordination plans?

Response 7

Additional text describing the Program's approach to coordination was added to the plan in Section III.2, “Consultation and Coordination.” That revised section addresses how we will meet legislative requirements for consultation and coordination with other Gulf of Mexico-focused programs. Avoiding duplication of effort is one of the main goals we will work on with our partner programs. The inclusion of citizen science was also recommended in several comments but did not require revisions to the plan. Refer to Section I.6, “Engagement”, for details on the Program's approach to stakeholder engagement.

Category 8: Funding, Eligibility, and Prioritization (20 Recommendations)

(a) Provide more details on FFOs, the decision process for proposal reviews, evaluation, and prioritization.

(b) Who is eligible for support?

(c) Explicitly state funding on upstream research.

(d) Is there a contingency plan for research in response to future disasters?

(e) Encouragement for the facilitation of student opportunities.

Response 8

The Program received several comments regarding the process we will use to develop FFOs. The Program has added language to clarify our approach to FFO development, including a list of factors that will inform the selection of topical priorities for specific funding opportunities. Refer to Section III.4, “Funding Opportunities and Competitive Process” for additional information on our approach to FFO development. This section also includes subsections that cover eligibility requirements for applying for funding, funding mechanisms, peer-review process, scientific integrity, and partnerships.

Category 9: Editorial (63 Recommendations)

(a) Typographical errors;

(b) Grammatical errors; and

(c) Recommendations for rewording or reorganizing.

Response 9

All typographical and grammatical errors pointed out in comments were corrected. In many cases, requests for rewording or reorganizing were accepted (e.g., outcomes, outputs, and example activities listed under each long-term research priority in Section II were reordered to example activities, example outputs, and outcomes); however, some requests would have required extensive rewriting of the plan or were beyond the scope of this document. In other cases, the requested information was already in the plan—this revised version improves the organization and alignment of information and section headers throughout the plan to make it easier to locate specific information. There were several comments regarding some confusion on information presented in appendices. Several appendices have been revised and their captions have been clarified. Non-essential appendices have been removed from the plan.

Dated: April 27, 2015.
Mary C. Erickson,
Director, National Centers for Coastal Ocean Science, National Ocean Service, National Oceanic and Atmospheric Administration.

[FR Doc. 2015-10453 Filed 5-5-15; 8:45 am]

BILLING CODE 3510-22-P